DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White HIV/AIDS Program Part C Early Intervention Services One-time Noncompetitive Replacement Award to Ensure Continued HIV Primary Medical Care.

SUMMARY: To prevent a lapse in comprehensive primary care services for more than 200 persons living with HIV/AIDS, HRSA will provide a one-time noncompetitive Ryan White HIV/AIDS Program Part C award to St. Luke's Hospital, Bethlehem, Pennsylvania.

SUPPLEMENTARY INFORMATION: The amount of the award to ensure ongoing HIV medical services is $294,399.

Authority: Section 2651 of the Public Health Service (PHS) Act, 42 U.S.C. 300ff-51.

CFDA Number: 93.918.

Project period: The period of support for this award is 12 months, explained below in further detail.

Justification for the Exception to Competition: The Two Rivers Health and Wellness Foundation, Easton, Pennsylvania (H76HA00774) announced the relinquishment of their Part C grant on December 27, 2013. Grant funds of $294,399 are to be awarded to St. Luke's Hospital, Bethlehem, PA, to prevent a lapse in HIV medical services. St. Luke's Hospital has been determined to be eligible to receive the Part C grant to provide interim HIV medical care. To prevent a lapse in HIV medical care, grant funds of $294,399 are to be awarded to St. Luke's Hospital to provide interim HIV medical care. The Two Rivers Health and Wellness Foundation currently provides care to more than 200 persons living with HIV/AIDS who have no other payer source for their care. The $294,399 represents 12 months of HIV medical primary care services until the service area is competed and awarded by April 1, 2015.

FOR FURTHER INFORMATION CONTACT: John Fanning, Senior Policy Advisor, Division of Community HIV/AIDS Programs/HAB, HRSA, 5600 Fishers Lane, Rockville, MD 20857, by email at jfanning@hrsa.gov, or by phone at (301) 443-8367.

Dated: March 28, 2014.
Mary K. Wakefield,
Administrator.

[FR Doc. 2014-07407 Filed 4-1-14; 8:45 am]

BILLING CODE 4165-15-P